FARM CREDIT ADMINISTRATION

12 CFR Part 611

RIN 3052-AC85

Organization; Institution Stockholder Voting Procedures

AGENCY: Farm Credit Administration.

ACTION: Notice of effective date.

SUMMARY: The Farm Credit Administration (FCA, we, Agency or our) amended our regulations to clarify and enhance Farm Credit System (Farm Credit or System) bank and association stockholder voting procedures for tabulating votes, the use of tellers committees, and other items as identified. In accordance with the law, the effective date of the rule is no earlier than 30 days from the date of publication in the Federal Register during which either or both Houses of Congress are in session.

DATES: Effective Date:

Under the authority of 12 U.S.C. 2252, the regulation amending 12 CFR part 611 published on May 28, 2015 (80 FR 30333) is effective July 27, 2015.

Compliance Date: All provisions of this regulation require compliance on or before January 1, 2016.

FOR FURTHER INFORMATION CONTACT: Thomas R. Risdal, Senior Policy Analyst, Office of Regulatory Policy, Farm Credit Administration, McLean, VA 22102-5090, (703) 883-4257, TTY (703) 883-4056, or Nancy Tunis, Senior Counsel, Office of General Counsel, Farm Credit Administration, McLean, VA 22102-5090, (703) 883-4061, TTY (703) 883-4056.

SUPPLEMENTARY INFORMATION: The Farm Credit Administration amended our regulations to clarify and enhance System bank and association stockholder voting procedures for tabulating votes, the use of tellers committees, and other items as identified. In accordance with 12 U.S.C. 2252, the effective date of the final rule is no earlier than 30 days from the date of publication in the Federal Register during which either or both Houses of Congress are in session. Based on the records of the sessions of Congress, the effective date of the regulations is July 27, 2015.

(12 U.S.C. 2252(a)(9) and (10))

Dated: July 21, 2015.
Dale L. Aultman,
Secretary, Farm Credit Administration Board.

[FR Doc. 2015-18285 Filed 7-24-15; 8:45 am]

BILLING CODE 6705-01-P